DEPARTMENT OF HEALTH AND HUMAN SERVICES

Administration for Children and Families

Proposed Information Collection Activity; National Survey of Early Care and Education COVID-19 Follow-Up (OMB #0970-0391)

AGENCY: Office of Planning, Research, and Evaluation, Administration for Children and Families, HHS.

ACTION: Request for Public Comment.

SUMMARY: The Administration for Children and Families (ACF), U.S. Department of Health and Human Services (HHS), is proposing a two-wave data collection as part of the National Survey of Early Care and Education (NSECE) (OMB #0970-0391), which will be conducted October 2020 through June 2021. The objective of the NSECE COVID-19 Follow-up is to document the nation's current supply of early care and education (ECE) services that is home-based providers, center-based providers, and the center-based provider workforce. In the context of the COVID-19 pandemic, the NSECE COVID-19 Follow-up will deepen our understanding of the state of ECE supply and the ECE workforce following the initial period of crisis, including changes in supply or departures from and re-entries to the workforce.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street, SW, Washington, DC 20201, Attn: OPRE Reports Clearance Officer. All requests, emailed or written, should be identified by the title of the information collection.

SUPPLEMENTARY INFORMATION:

Description: The NSECE COVID-19 Follow-up will collect information from center-based ECE providers of care to children birth through age 5 (not yet in kindergarten), home-based ECE providers that serve children under age 13, as well as the ECE workforce providing these services. The proposed collection will consist of the following three coordinated nationally representative surveys:

1. A two-wave survey of individuals who provided paid care for children under the age of 13 in a residential setting, as of 2019, and who participated in the 2019 NSECE (Home-based Provider Interview);

2. a two-wave survey of providers of care to children ages 0 through 5 years of age (not yet in kindergarten) in a non-residential setting (Center-based Provider Interview), as of 2019, and who participated in the 2019 NSECE; and

3. a two-wave survey conducted with individuals employed in center-based child care programs working directly with children in classrooms (Center-based Classroom Staff [Workforce] Interview), as of 2019, and who participated in the 2019 NSECE.

The NSECE COVID-19 Follow-up will provide urgently needed information about the supply of child care and early education available to families across all income levels, including providers serving low-income families of various racial, ethnic, language, and cultural backgrounds, in diverse geographic areas. The study will also dramatically extend the available resources for understanding the national impact of the COVID-19 pandemic on the country's ECE supply and workforce, including geographic variation therein. Accurate data on the availability and characteristics of ECE programs are essential to assess the current and changing landscape of child care and early education programs and understand the ability of the nation's supply and workforce to meet the needs of parents of young children in the post-pandemic economy, and will provide insights to advance policy and initiatives in the ECE field.

Respondents: Home-based providers, as of 2019, serving children under 13 years of age (listed and unlisted paid)—regardless of their status serving children in 2020-2021; center-based child care providers, as of 2019, serving children ages 0 through 5 years of age (not yet in kindergarten)—regardless of their status serving children in 2020-2021; and classroom-assigned instructional staff members working with children ages 0 through 5 years of age (not yet in kindergarten) in center-based child care providers, as of 2019, regardless of their employment status in 2020-2021.

Annual Burden Estimates
Instrument | Annual number of respondents | Number of responses per respondent | Average burden hours per response | Annual burden hours
Home-based Provider Interview, Waves 1 and 2 | 3,375 | 1.5 | .33 | 1,671
Center-based Provider Interview, Waves 1 and 2 | 5,850 | 1.5 | .33 | 2,896
Center-based Classroom Staff (Workforce) Interview, Waves 1 and 2 | 3,533 | 1.5 | .33 | 1,749

Estimated Total Annual Burden Hours: 6,316.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Child Care and Development Block Grant Act (42 U.S.C. 9858 et seq.).

John M. Sweet Jr,
ACF/OPRE Certifying Officer.

[FR Doc. 2020-16550 Filed 7-29-20; 8:45 am]

BILLING CODE 4184-23-P